DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and Other Federal Agencies.

SUMMARY: The FHWA, on behalf of Caltrans, is issuing this notice to announce actions taken by Caltrans, and other Federal agencies, that are final within the meaning of 23 U.S.C. 139(l)(1). The actions relate to proposed highway improvements in Santa Clara County at the connection of the State Route 17, Interstate 280 and Interstate 880 freeways in the City of San Jose, Santa Clara County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 28, 2012. If the Federal law that authorizes judicial review of a claim provides a time period of less than 180 days for filing such claim, then that shorter time period still applies.

FOR FURTHER INFORMATION CONTACT: For Caltrans: Melanie Brent, Office Chief, Office of Environmental Analysis, Caltrans District 4, 111 Grand Avenue, MS 8B, Oakland, CA 94612, (510) 286-5231, Melanie_Brent@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: Highway Improvements to modify the State Route 17/Interstate-280/Interstate-880 freeway-to-freeway interchange as well as the adjacent interchange at Interstate 88R0/Stevens Creek Boulevard. The purpose of the project is to improve operations and safety on the freeways and local roadways in the vicinity of these interchanges and to provide additional access between the Interstate 280/Interstate 880 freeway corridors and nearby land uses.

The actions by the Federal agencies, and the laws under which such actions were taken, are described in the Final Environmental Assessment (FEA) for the project. A Finding of No Significant Impact (FONSI) was approved on July 8, 2011. The FEA, FONSI, and other project records are available by contacting Caltrans at the addresses provided above. The Caltrans FEA and FONSI can be viewed and downloaded from the project Web site at http://www.dot.ca.gov/dist4/envdocs.htm.

This notice applies to all Federal agency decisions as of the issuance date of this notice and all laws under which such actions were taken, including but not limited to:

1. National Environmental Policy Act (NEPA) [42 U.S.C. 4321-4351]; Federal-Aid Highway Act [23 U.S.C. 109] and its regulations 23 CFR 772

2. Antiquities Act of 1906 [16 U.S.C. 431-433]; Federal-Aid Highway Act of 1935 [20 U.S.C. 78]

3. Clean Air Act [42 U.S.C. 7401-7671(q)]

4. Clean Water Act [33 U.S.C. 1344]

Authority: 23 U.S.C. 139(l)(1)

Issued on: August 25, 2011.
Gary Sweeten,
Acting Director, Local Programs, Federal Highway Administration, Sacramento, California.

[FR Doc. 2011-22350 Filed 8-31-11; 8:45 am]

BILLING CODE 4910-RY-P